OFFICE OF PERSONNEL MANAGEMENT

Proposed Collection; Comment Request For Collection: Scholarship for Service Program Internet Web Page

AGENCY: Office of Personnel Management.

ACTION: Notice.

SUMMARY: In accordance with the Paperwork Reduction Act of 1995 (Pub. L. 104-13, May 22, 1995), this notice announces that the Office of Personnel Management (OPM) intends to submit a request to the Office of Management and Budget (OMB). The OPM is requesting OMB to approve a collection associated with the Scholarship For Service (SFS) Program Internet Web page. Approval of the Web page is necessary to facilitate the timely registration, selection and placement of program-enrolled students in Federal agencies.

The SFS Program was established by the National Science Foundation in accordance with the Federal Cyber Service Training and Education Initiative as described in the President's National Plan for Information Systems Protection. This program seeks to increase the number of qualified students entering the fields of information assurance and computer security in an effort to respond to the threat to the Federal Government's information technology infrastructure. The program provides capacity building grants to selected 4-year colleges and universities to develop or improve their capacity to train information assurance professionals. It also provides selected 4-year colleges and universities scholarship grants to attract students to the information assurance field. Participating students who receive scholarships from this program are required to serve a 10-week internship during their studies and complete a post-graduation employment commitment equivalent to the length of the scholarship or one year, whichever is longer.

OPM projects that 450 students will graduate from participating institutions over the next three years. These students will need placement in addition to the 180 students needing placement this year. This is a new collection of information. Based on other programs that collect similar information, we estimate the collection of information for registering and creating an online resume to be 45 minutes to 1 hour in length of time to answer questions. We estimate the total number of hours to be 630.

Comments are particularly invited on: Whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

For copies of this proposal, contact Kathy Roberson (210) 805-2423, ext. 506; fax (210) 805-2407 or e-mail to kathy.roberson@opm.gov. Please include your mailing address with your request.

DATES: Comments on this proposal should be received within sixty (60) calendar days from the date of this publication.

ADDRESSES: Send or deliver comments to:U.S. Office of Personnel Management, ATTN: Kathy Roberson, 8610 Broadway, Rm. 305,San Antonio, TX 78217.E-mail: kathy.roberson@opm.gov.

Office of Personnel Management.
Dan G. Blair,
Deputy Director.

[FR Doc. E6-9417 Filed 6-15-06; 8:45 am]

BILLING CODE 6325-38-P